DEPARTMENT OF HOMELAND SECURITY

Coast Guard

33 CFR Part 100

[Docket No. USCG-2021-0024]

Special Local Regulation; Marine Events Within the Eleventh Coast Guard District—Swim for Special Operations Forces

AGENCY: Coast Guard, DHS.

ACTION: Notification of enforcement of regulation.

SUMMARY: The Coast Guard will enforce the special local regulation on the waters of San Diego Bay, San Diego, California during the Honor Foundation Swim for Special Operations Forces (SOF) on September 18, 2021. This special local regulation is necessary to provide for the safety of the participants, crew, sponsor vessels of the swim event, and general users of the waterway. During the enforcement period, persons and vessels are prohibited from entering into, transiting through, or anchoring within this regulated area unless authorized by the Captain of the Port, or his designated representative.

DATES: The regulation in 33 CFR 100.1101, Table 1 to § 100.1101, Item No. 16, will be enforced from 8 a.m. until 12:30 p.m., on September 18, 2021.

FOR FURTHER INFORMATION CONTACT: If you have questions about this notification of enforcement, call or email Lieutenant Commander John Santorum, Waterways Management, U.S. Coast Guard Sector San Diego, CA; telephone (619) 278-7656, email D11MarineEventsSD@uscg.mil.

SUPPLEMENTARY INFORMATION: The Coast Guard will enforce the special local regulation in 33 CFR 100.1101, Table 1 to § 100.1101, Item No. 16, from 8 a.m. through 12:30 p.m. on September 18, 2021 for the Honor Foundation Swim for SOF in San Diego, CA. This action is being taken to provide for the safety of life on navigable waterways during the swim event. Our regulation for recurring marine events in the San Diego Captain of the Port Zone, § 100.1101, Table 1 to § 100.1101, Item No. 16, specifies the location of the regulated area for the Honor Foundation Swim for SOF, CA, which encompasses portions of San Diego Bay. Under the provisions of § 100.1101, persons and vessels are prohibited from entering into, transiting through, or anchoring within this regulated area unless authorized by the Captain of the Port, or his designated representative. The Coast Guard may be assisted by other Federal, State, or local law enforcement agencies in enforcing this regulation.

In addition to this document in the Federal Register, the Coast Guard will provide the maritime community with advance notification of this enforcement period via the Local Notice to Mariners and marine information broadcasts.

Dated: September 13, 2021.
T.J. Barelli,
Captain, U.S. Coast Guard, Captain of the Port San Diego.

[FR Doc. 2021-20098 Filed 9-16-21; 8:45 am]

BILLING CODE 9110-04-P